NATIONAL COMMISSION ON TERRORIST ATTACKS UPON THE UNITED STATES

Public Hearing

ACTION: Notice of public hearing.

SUMMARY: The National Commission on Terrorist Attacks Upon the United States will hold its fifth public hearing on November 19, 2003, at Drew University in Madison, NJ. Witnesses will speak about issues related to “Private/Public Sector Partnerships for Emergency Preparedness.” Representatives of the media should register in advance of the hearing by visiting the Commission's Web site at www.9-11 commission.gov. Seating for the general public will be on a first-come, first-served basis. Press availability will occur at the conclusion of the hearing.

DATES: November 19, 2003, 10 a.m. to 5 p.m. Press availability to follow.

LOCATION: Baldwin Gymnasium, Drew University, 36 Madison Ave, Madison, NJ, 07940.

FOR FURTHER INFORMATION CONTACT: Al Felzenberg, (202) 401-1725 (office) or (202) 236-4878 (cellular).

SUPPLEMENTARY INFORMATION: Please refer to Public Law 107-306 (November 27, 2002), title VI (Legislation creating the Commission), and the Commission's Web site: www.9-11 commission.gov.

Dated: November 12, 2003.
Philip Zelikow,
Executive Director.

[FR Doc. 03-28648 Filed 11-14-03; 8:45 am]

BILLING CODE 8800-01-M